DEPARTMENT OF TRANSPORTATION

Surface Transportation Board

[STB Finance Docket No. 33905]

Lackawanna County Railroad Authority—Acquisition Exemption—F&L Realty, Inc.

Lackawanna County Railroad Authority (LCRA), a political subdivision and nonoperating Class III rail carrier, has filed a verified notice of exemption under 49 CFR 1150.41 to acquire 4.96 route miles of track (track) in Lackawanna County, PA, from F&L Realty, Inc. (F&L). The track consists of two small segments described as follows: (1) The Diamond Branch, of the former Delaware, Lackawanna & Western Railroad (DL&W), extending 0.85 miles from milepost 144.75 to milepost 145.6, in Scranton; and (2) the Laurel Line, of the former DL&W, extending 4.11 miles from LC 6253 milepost 0.7 (South Abutment of Roaring Brook Bridge) to milepost 4.81, at Montage Road, in the Borough of Moosic.¹ Delaware-Lackawanna Railroad Co., Inc. (D-L) will be the operator of the track.

¹ According to the verified notice of exemption, Pocono Northeast Railway, a now defunct corporate affiliate of F&L, formerly provided service over the track but stopped providing that service some years ago without obtaining any regulatory approval.

This transaction is related to a simultaneously filed verified notice of exemption in STB Finance Docket No. 33906, Delaware-Lackawanna Railroad Co., Inc.—Operation Exemption—Lackawanna County Railroad Authority, wherein D-L seeks to operate the track being acquired by LCRA.

The parties report that they intend to consummate the transaction on or about July 28, 2000. The earliest the transaction can be consummated is July 24, 2000, the effective date of the exemption (7 days after the exemption was filed).

If the notice contains false or misleading information, the exemption is void ab initio. Petitions to revoke the exemption under 49 U.S.C. 10502(d) may be filed at any time. The filing of a petition to revoke does not automatically stay the transaction.

An original and 10 copies of all pleadings, referring to STB Finance Docket No. 33905, must be filed with the Surface Transportation Board, Office of the Secretary, Case Control Unit, 1925 K Street, NW., Washington, DC 20423-0001. In addition, a copy of each pleading must be served on Keith G. O'Brien, Esq., Rea, Cross & Auchincloss, 1707 L Street, NW., Suite 570, Washington, DC 20036.

Board decisions and notices are available on our website at “WWW.STB.DOT.GOV.”

Decided: July 21, 2000.
By the Board, David M. Konschnik, Director, Office of Proceedings.
Vernon A. Williams,
Secretary.

[FR Doc. 00-19167 Filed 7-27-00; 8:45 am]

BILLING CODE 4915-00-P